DEPARTMENT OF LABOR

Employment and Training Administration

[TA-W-59,323; TA-W-59,094A]

Moore Wallace Business Form Design Division, A RR Donnelly Company, Monroe, WI, Including an Employee Located in Sumerduck, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 17, 2006, applicable to workers of The Moore Wallace, Business Form Design Division, A RR Donnelly Company, Monroe, Wisconsin. The notice was published in the Federal Register on June 29, 2006 (71 FR 33488).

At the request of a State agency, the Department reviewed the certification for workers of the subject firm. New information shows that worker separation has occurred involving an employee of the Monroe, Wisconsin facility of Moore Wallace, Business Form Design Division, A RR Donnelly Company located in Sumerduck, Virginia. Ms. Deb Orf provided designing function services for the production of business form designs which are used within the subject firm to produce business forms for sale.

Based on these findings, the Department is amending this certification to include an employee of the Monroe, Wisconsin facility of Moore Wallace, Business Form Design Division, A RR Donnelly Company located in Sumerduck Virginia.

The intent of the Department's certification is to include all workers of Moore Wallace, Business Form Design Division, A RR Donnelly Company, Monroe, Wisconsin who were adversely affected by a shift in production to India.

The amended notice applicable to TA-W-59,323 is hereby issued as follows:

”All workers of Moore Wallace, Business Form Design Division, A RR Donnelly Company, Monroe Wisconsin (TA-W-59,323), and including an employee located in Sumerduck, Virginia (TA-W-59,323A), who became totally or partially separated from employment on or after April 28, 2005, through May 17, 2008, are eligible to apply for adjustment assistance under Section 223 of the Trade Act of 1974 and are also eligible to apply for alternative trade adjustment assistance under Section 246 of the Trade Act of 1974.”

Signed at Washington, DC this 22nd day of September 2006.
Richard Church,
Certifying Officer, Division of Trade Adjustment Assistance.

[FR Doc. E6-16100 Filed 9-28-06; 8:45 am]

BILLING CODE 4510-30-P